DEPARTMENT OF ENERGY

Federal Energy Regulatory Commission

[Docket Nos. RD18-1-000, RD18-2-000, RD18-3-000 and RD18-5-000]

Commission Information Collection Activities (FERC-725E); Comment Request; Revision

AGENCY: Federal Energy Regulatory Commission, Department of Energy.

ACTION: Comment request.

SUMMARY: In compliance with the requirements of the Paperwork Reduction Act of 1995, the Federal Energy Regulatory Commission (Commission or FERC) is submitting its information collection FERC-725E (Mandatory Reliability Standards for the Western Electric Coordinating Council) to the Office of Management and Budget (OMB) for review of the information collection requirements. Any interested person may file comments directly with OMB and should address a copy of those comments to the Commission as explained below. On May 11, 2018, the Commission previously issued a Notice in the Federal Register requesting public comments. The Commission received no comments on the FERC-725E and is making this notation in its submittal to OMB.

DATES: Comments on the collection of information are due by August 17, 2018.

ADDRESSES: Comments filed with OMB, identified by the OMB Control No. 1902-0246, should be sent via email to the Office of Information and Regulatory Affairs: oira_submission@omb.gov. Attention: Federal Energy Regulatory Commission Desk Officer. The Desk Officer may also be reached via telephone at 202-395-0710.

A copy of the comments should also be sent to the Commission, in Docket Nos. RD18-1-000, RD18-2-000, RD18-3-000, and RD18-5-000 by either of the following methods:

• eFiling at Commission's website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: FERC-725E, Mandatory Reliability Standards for the Western Electric Coordinating Council.

OMB Control No.: 1902-0246.

Type of Request: Revision to FERC-725E information collection requirements, as discussed in Docket Nos. RD18-1-000 and RD18-3-000.

Abstract: The North American Electric Reliability Corporation (NERC) and Western Electricity Coordinating Council (WECC) filed four joint petitions to modify/retire WECC regional Reliability Standards.

On March 8 2018, NERC and WECC filed a joint petition in Docket No. RD18-2-000 ¹ requesting Commission approval of:

¹ The joint petition and exhibits are posted in the Commission's eLibrary system in Docket No. RD18-2-000 (BAL-004-WECC-3 Petition).

• Regional Reliability Standard BAL-004-WECC-3 (Automatic Time Error Correction), and

• the retirement of existing regional Reliability Standard BAL-004-WECC-2.

The petition states: “Regional Reliability Standard BAL-004-WECC-3 seeks to maintain Interconnection frequency and to ensure that Time Error Corrections and Primary Inadvertent Interchange (“PII”) payback are effectively conducted in a manner that does not adversely affect the reliability of the [Western] Interconnection.” ² The proposed modifications to the standard focus on the entities using a common tool. All other proposed changes are for clarification. The Commission is not changing the reporting requirements, nor is it modifying the burden, cost or respondents with this collection, and sees this as a non-material or non-substantive change to a currently approved collection.

² BAL-004-WECC-3 Petition, page 1.

On March 16, 2018, NERC and WECC filed a joint petition in Docket No. RD18-5-000 ³ requesting Commission approval of:

³ The joint petition and exhibits are posted in the Commission's eLibrary system in Docket No. RD18-5-000 (FAC-501-WECC-2 Petition).

• Regional Reliability Standard FAC-501-WECC-2 (Transmission Maintenance), and

• the retirement of existing regional Reliability Standard FAC-501-WECC-1.

The petition states: “The purpose of FAC-501-WECC-2 is to ensure the Transmission Owner of a transmission path identified in the table titled “Major WECC Transfer Paths in the Bulk Electric System” (“WECC Transfer Path Table” or “Table”), including associated facilities, has a Transmission Maintenance and Inspection Plan (“TMIP”) and performs and documents maintenance and inspection activities in accordance with the TMIP.” The modifications to the existing standard are for clarification of the transmission owner's obligations and to directly incorporate the list of applicable transmission paths. This list is currently posted on the WECC website and has not changed. The Commission is not changing reporting requirements nor is it modifying the burden, cost or respondents with this collection, and sees this as a non-material or non-substantive change to a currently approved collection.

The Commission's request to OMB will reflect the following:

• Elimination of the burden associated with regional Reliability Standard VAR-002-WECC-2 (Automatic Voltage Regulators), which is proposed for retirement (addressed in Docket No. RD18-1 and discussed below); ⁴

⁴ The joint petition and exhibits are posted in the Commission's eLibrary system in Docket No. RD18-1-000 (VAR-002-WECC-2 Petition).

• elimination of the burden associated with regional Reliability Standard PRC-004-WECC-2 (Protection System and Remedial Action Scheme Misoperation), which is proposed for retirement (addressed in Docket No. RD18-3 and discussed below),⁵

⁵ The joint petition and exhibits are posted in the Commission's eLibrary system in Docket No. RD18-3-000 (WECC PRC-004-WECC-2 Retirement Petition).

• non-material or non-substantive changes (discussed above) in Docket Nos. RD18-2 and RD18-5.

On March 7, 2018, NERC and WECC filed a joint petition in Docket No. RD18-1-000 requesting Commission approval to retire the WECC regional Reliability Standard VAR-002-WECC-2 (Automatic Voltage Regulators). According to the petition, the purpose of the proposed retirement is based on WECC's experience with regional Reliability Standard VAR-002-WECC-2 which has shown that the reliability-related issues addressed in the regional standard are adequately addressed by the continent-wide voltage and reactive (“VAR”) Reliability Standards ⁶ and that retention of the regional standard would not provide additional benefits for reliability.

⁶ The burdens related to continent-wide Reliability Standards VAR-001-4.2 (Voltage and Reactive Control) and VAR-002-4.1 (Generator Operation for Maintenance Network Voltage Schedules) are included in FERC-725A (Mandatory Reliability Standards for the Bulk-Power System, OMB Control No. 1902-0244).

On March 9, 2018, NERC and WECC filed a joint petition in Docket No. RD18-3-000 requesting Commission approval to retire the WECC regional Reliability Standard PRC-004-WECC-2 (Protection System and Remedial Action Scheme Misoperation). The purpose of the proposed retirement is based on NERC and WECC's belief that since the initial development of this regional standard, other continent-wide Reliability Standards ⁷ have been developed that have made the requirements of this regional Reliability Standard redundant and no longer necessary for reliability in the Western Interconnection.

⁷ The burdens related to continent-wide Reliability Standards mentioned in the petition: FAC-003-4 (Transmission Vegetation Management) are included in FERC-725M (Mandatory Reliability Standards for the Bulk-Power System, OMB Control No. 1902-0263); PRC-001-1.1(ii) (System Protection Coordination) are included in FERC-725A (Mandatory Reliability Standards for the Bulk-Power System, OMB Control No. 1902-0244); PRC-004-5(i) (Protection System Misoperation Identification and Correction), PRC-005-6 (Protection System, Automatic Reclosing, and Sudden Pressure Relaying Maintenance), PRC-012-2 (Remedial Action Schemes) are included in FERC-725G (Mandatory Reliability Standards for the Bulk-Power System: PRC Standards, OMB Control No. 1902-0252); PRC-016-1 (Remedial Action Scheme Misoperations), PRC-017-1 (Remedial Action Scheme Maintenance and Testing), TOP-001-3 (Transmission Operations) and TOP-003-3 (Operational Reliability Data) are included in FERC-725A (Mandatory Reliability Standards for the Bulk-Power System, OMB Control No. 1902-0244).

Type of Respondents: Transmission owners, transmission operators, generator operators, and generator owners.

Estimate of Annual Burden: ⁸ Details follow on the changes in Docket Nos. RD18-1-000 and RD18-3-000 which will be submitted to OMB for approval in a consolidated package under FERC-725E.

⁸ The Commission defines burden as the total time, effort, or financial resources expended by persons to generate, maintain, retain, or disclose or provide information to or for a Federal agency. For further explanation of what is included in the information collection burden, reference 5 Code of Federal Regulations 1320.3.

Estimate of Changes to Burden Due to Docket No. RD18-1: The Commission estimates the reduction in the annual public reporting burden for the FERC-725E (due to the retirement of regional Reliability Standard VAR-002-WECC-2) as follows:9 10

⁹ The reductions in burden and cost shown in the table are the same figures as those in the current OMB-approved inventory for the reporting and recordkeeping requirements that are now being retired.

¹⁰ The hourly cost (for salary plus benefits) uses the figures from the Bureau of Labor Statistics for three positions involved in the reporting and recordkeeping requirements. These figures include salary (http://bls.gov/oes/current/naics2_22.htm) and benefits (http://www.bls.gov/news.release/ecec.nr0.htm) and are: Manager: $89.07/hour, Engineer: $64.91/hour, and File Clerk: $31.19/hour.

The hourly cost for the reporting requirements ($76.99) is an average of the cost of a manager and engineer. The hourly cost for recordkeeping requirements uses the cost of a file clerk.

FERC-725E, Mandatory Reliability Standards for the Western Electric Coordinating Council, Reductions Due to Docket No. RD18-1-000
Entity | Number of respondents | Annual number of responses per respondents | Annual number of responses | Average burden hours and cost per response ($) | Total annual burden hours and total annual cost ($) | Cost per respondent ($)
| (1) | (2) | (1) * (2) = (3) | (4) | (3) * (4) = (5) | (5) ÷ (1) = (6)
Retirement of Regional Reliability Standard VAR-002-WECC-2 and Associated Reductions
Reporting Requirements (Annually):
Generator Operators | 228 | 1 | 228 | 10 hr.; $769.90 | 2,280 hr.; $175,537 (reduction) | $770 (reduction).
Transmission Operators applicable to standard VAR-002 | 86 | 4 | 344 | 10 hr.; $769.90 | 3,440 hr.; $264,846 (reduction) | $3,080 (reduction).
Recordkeeping Requirements (Annually):
Generator Operators | 228 | 1 | 228 | 1 hr.; $31.19 | 228 hr.; $7,111 (reduction) | $31 (reduction).
Transmission Operators applicable to standard VAR-002 | 86 | 1 | 86 | 4 hr.; $124.76 | 344 hr.; $10,729 (reduction) | $125 (reduction).
Total Reduction |  |  | 886 |  | 6,292 hr.; $458,223 (reduction)

Estimate of Changes to Burden Due to Docket No. RD18-3: The Commission estimates the reduction in the annual public reporting burden for the FERC-725E (due to the retirement of regional Reliability Standard PRC-004-WECC-2) as follows: 11 12

¹¹ The reductions in burden and cost shown in the table are the same figures as those in the current OMB-approved inventory for the reporting and recordkeeping requirements, now being retired.

¹² The hourly cost (for salary plus benefits) uses the figures from the Bureau of Labor Statistics for three positions involved in the reporting and recordkeeping requirements. These figures include salary (http://bls.gov/oes/current/naics2_22.htm) and benefits (http://www.bls.gov/news.release/ecec.nr0.htm) and are: Manager: $89.07/hour, Engineer: $64.91/hour, and File Clerk: $31.19/hour.

The hourly cost for the reporting requirements ($76.99) is an average of the cost of a manager and engineer. The hourly cost for recordkeeping requirements uses the cost of a file clerk.

FERC-725E, Mandatory Reliability Standards for the Western Electric Coordinating Council, Reductions Due to Docket No. RD18-3-000
Entity | Number of respondents | Annual number of responses per respondents | Annual number of response | Average burden hours and cost per response ($) | Total annual burden hours and total annual cost ($) | Cost per respondent ($)
| (1) | (2) | (1) * (2) = (3) | (4) | (3) * (4) = (5) | (5) ÷ (1) = (6)
Retirement of regional Reliability Standard PRC-004-WECC-2 and Associated Reductions
Reporting Requirements (Annually):
Transmission Owners that operate qualified transfer paths | 5 | 2 | 10 | 40 hr.; $3,079.60 | 400 hr.; $30,796 (reduction) | $6,159 (reduction).
Recordkeeping Requirements (Annually):
Transmission Owners that operate qualified transfer paths | 5 | 1 | 5 | 6 hr.; $187.14 | 30 hr.; $936 (reduction) | $187 (reduction).
Total Reduction |  |  | 15 |  | 430 hr.; $31,732 (reduction)

Total Reduction in Burden for FERC-725E, for Submittal to OMB. The total reduction in burden due to the proposed retirements of regional Reliability Standards VAR-002-WECC-2 and PRC-004-WECC-2 is detailed below:

• Total Reduction of Annual Responses: 901.

• Total Reduction of Burden Hours: 6,722.

• Total Reduction of Burden Cost: $489,955.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: July 12, 2018.
Kimberly D. Bose,
Secretary.

[FR Doc. 2018-15325 Filed 7-17-18; 8:45 am]

BILLING CODE 6717-01-P